DEPARTMENT OF THE INTERIOR

National Park Service

Notice of Intent to Repatriate Cultural Items: Peabody Essex Museum, Salem, MA

AGENCY: National Park Service, Interior.

ACTION: Notice.

Notice is hereby given under the Native American Graves Protection and Repatriation Act (NAGPRA), 25 U.S.C. 3005, of the intent to repatriate cultural items in the possession of the Peabody Essex Museum, Salem, MA, that meet the definition of “unassociated funerary objects” under 25 U.S.C. 3001.

This notice is published as part of the National Park Service’s administrative responsibilities under NAGPRA, 25 U.S.C. 3003 (d)(3). The determinations within this notice are the sole responsibility of the museum, institution, or Federal agency that has control of the cultural items. The National Park Service is not responsible for the determinations within this notice.

The cultural items were collected by J.S. Emerson sometime between the 1880s and the early 1900s and purchased for the Peabody Essex Museum by Dr. C.G. Weld on June 12, 1907. In documentation accompanying the collection, Mr. Emerson indicated that he had found the items in ancient burial caves in Kohala and Kau, HI. He referred to the eight unassociated funerary objects as “a runner of a holua sled,” “a small hue,” an “ipu le’i, a very deep bowl with a calabash cover,” an “ipukai waiho i’a, a very old wooden fish bowl,” a “pa inamona, wooden bowl,” “two pieces of an old umeke (wooden poi bowl),” all from Kanupa Cave in Kohala, and a “kioe i’a, a cocoanut shell spoon or ladle” from a burial cave in Kau. Kohala and Kau are both on the Island of Hawaii.

During consultation, representatives of Hui Malama I Na Kupuna O Hawai’i Nei, Ka Lahui Hawai’i, and the Office of Hawaiian Affairs indicated their desire to repatriate the cultural items. Officials of the Peabody Essex Museum have determined that, pursuant to 25 U.S.C. 3001 (3)(B), the cultural items are reasonably believed to have been placed with or near individual human remains at the time of death or later as part of the death rite or ceremony and are believed, by a preponderance of the evidence, to have been removed from a specific burial site of a Native American individual. Officials of the Peabody Essex Museum also have determined following consultation with Bernice P. Bishop Museum professional staff that, pursuant to 25 U.S.C. 3001 (2), there is a relationship of shared group identity that can be reasonably traced between the cultural items and Hui Malama I Na Kupuna O Hawai’i Nei, Ka Lahui Hawai’i, and the Office of Hawaiian Affairs.

Representatives of any other Native Hawaiian organization that believes itself to be culturally affiliated with the cultural items should contact Christina Hellmich, Director of Collections Management, Peabody Essex Museum, East India Square, Salem, MA 01970, telephone (978) 745-1876, facsimile (978) 744-0036, before May 23, 2003. Repatriation of the unassociated funerary objects to Hui Malama I Na Kupuna O Hawai’i Nei, Ka Lahui Hawai’i, and the Office of Hawaiian Affairs may proceed after that date if no additional claimants come forward.

The Peabody Essex Museum is responsible for notifying Hui Malama I Na Kupuna O Hawai’i Nei, Ka Lahui Hawai’i, and the Office of Hawaiian Affairs that this notice has been published.

Dated: March 27, 2003.
John Robbins,
Assistant Director, Cultural Resources.

[FR Doc. 03-10030 Filed 4-22-03; 8:45 am]

BILLING CODE 4310-70-S